DEPARTMENT OF COMMERCE

National Telecommunications and Information Administration

NTIA Listening Session on the Use of BEAD Funds Saved Through the Trump Administration's Benefit of the Bargain Reforms

AGENCY: National Telecommunications and Information Administration, U.S. Department of Commerce.

ACTION: Notice of open meeting.

SUMMARY: The National Telecommunications and Information Administration (NTIA) will convene a virtual listening session on the use of the Broadband Equity Access and Deployment (BEAD) program funds saved thanks to the Trump Administration and Secretary Lutnick's Benefit of the Bargain reforms. This session will gather input from stakeholders to inform NTIA's future planning and policy development regarding the use of these “nondeployment” funds.

DATES: The listening session will be held on Wednesday, February 11, 2026, from 2:00 p.m. to 4:00 p.m. EST.

ADDRESSES: The session will be held virtually and you can preregister for the session at https://ntia-gov.zoomgov.com/webinar/register/WN_C_edeFU8QWOm0m4Y-qtvaQ#/registration. For further information, please consult https://ntia-gov.zoomgov.com/webinar/register/WN_C_edeFU8QWOm0m4Y-qtvaQ#/registration.

FOR FURTHER INFORMATION CONTACT: Please direct questions regarding this notice to broadbandgrants@ntia.gov, indicating “BEAD Savings Listening Session” in the subject line, or if by mail, addressed to National Telecommunications and Information Administration, U.S. Department of Commerce, 1401 Constitution Avenue NW, Washington, DC 20230; telephone: 202-482-3806. Please direct media inquiries to NTIA's Office of Public Affairs at press@ntia.gov.

SUPPLEMENTARY INFORMATION:

Background and Authority: The National Telecommunications and Information Administration (NTIA), part of the U.S. Department of Commerce, is the President's principal advisor on telecommunications and information policy issues. NTIA's programs and policymaking focus on expanding broadband internet access in America, maximizing the use of spectrum by all users, advancing public safety communications, and ensuring that the internet remains an engine for innovation and economic growth. Pursuant to our authorities under 47 U.S.C. 902(b)(2)(M), NTIA will host a public listening session to gather stakeholder input that will inform the allowable uses for BEAD funds saved through the Benefit of the Bargain reforms.

Time and Date: NTIA will convene the public listening session on Wednesday, February 11, 2026, from 2:00 p.m. to 4:00 p.m., Eastern Standard Time (EST). The exact time of the meeting is subject to change. Please refer to NTIA's BroadbandUSA website, https://broadbandusa.ntia.gov, for the most up-to-date information.

Place: The meeting will be held virtually, with pre-registration required at https://broadbandusa.ntia.gov. The virtual meeting is open to the public and the press on a first-come, first-served basis. The virtual meeting is accessible to people with disabilities. Individuals requiring accommodations such as real-time captioning, sign language interpretation or other ancillary aids should notify the Department at broadbandgrants@ntia.gov at least seven (7) business days prior to the meeting. Access details for the meeting are subject to change. Please refer to NTIA's BroadbandUSA website, https://broadbandusa.ntia.gov, for the most current information.

Dated: January 28, 2026.
David Brodian,
Chief Counsel, National Telecommunications and Information Administration.

[FR Doc. 2026-01594 Filed 1-26-26; 8:45 am]

BILLING CODE 3510-60-P